ENVIRONMENTAL PROTECTION AGENCY

40 CFR Part 52

[EPA-R09-OAR-2024-0197; FRL-11981-02-R9]

Air Plan Revisions; California; Sacramento Metropolitan Air Quality Management District

AGENCY: Environmental Protection Agency (EPA).

ACTION: Final rule.

SUMMARY: The Environmental Protection Agency (EPA) is taking final action to approve State implementation plan (SIP) revisions from the Sacramento Metropolitan Air Quality Management District (SMAQMD or “District”) to address Clean Air Act (CAA or “Act”) requirements related to the 2008 8-hour ozone national ambient air quality standards (NAAQS or “standards”). These revisions concern emissions of oxides of nitrogen (NOX) from boilers, gas turbines, and miscellaneous (“misc”) combustion units as well as reasonably available control technology (RACT) requirements for major sources of NOX in the portion of the Sacramento Metro, CA, nonattainment area that is subject to SMAQMD jurisdiction.

DATES: This rule is effective October 25, 2024.

ADDRESSES: The EPA has established a docket for this action under Docket ID No. EPA-R09-OAR-2024-0197. All documents in the docket are listed on the https://www.regulations.gov website. Although listed in the index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Eugene Chen, EPA Region IX, 75 Hawthorne St., San Francisco, CA 94105. By phone: (415) 947-4304 or by email at chen.eugene@epa.gov.

SUPPLEMENTARY INFORMATION: Throughout this document, “we,” “us,” and “our” refer to the EPA.

Table of Contents

I. Proposed Action

II. Public Comments and EPA Responses

III. EPA Action

IV. Incorporation by Reference

V. Statutory and Executive Order Reviews

I. Proposed Action

On July 2, 2024, the EPA proposed to approve the California Air Resources Board's (CARB) submittal of a SIP revision adopted by the SMAQMD.¹ As discussed in our proposed action, this SIP revision adopted portions of several permits issued under the District's SIP-approved New Source Review (NSR) permit program (“District Permits”) for submittal into the SIP. These District Permits are relied upon to implement RACT for major sources of NOX, and we proposed to determine that these District Permits would comply with the EPA's Startup, Shutdown, and Malfunction (SSM) policy and other applicable Clean Air Act (CAA or “Act”) requirements. Based on our review, we proposed to determine that these District Permits, in conjunction with the SIP-approved NOX limits already established in Rule 411 (NOX from Boilers, Process Heaters and Steam Generators) and Rule 413 (Stationary Gas Turbines), implement RACT for each major NOX source in the District. We therefore also proposed to approve the major source NOX RACT element of the 2017 RACT SIP for the 2008 ozone NAAQS.

¹ 89 FR 54748.

Table 1—Submitted Documents
Local agency | Document/ rule No. | Document title | Adopted | Submitted
SMAQMD |  | Reasonably Available Control Technology (RACT) Permits for Major Stationary Sources of Nitrogen Oxides | 03/28/2024 | 04/11/2024

A list of individual permits contained in this submittal is included in Table 2 below.

Table 2—District Permits Included in April 11, 2024 Submittal
Source name | Permit No. | Unit name/ID | Unit size (MMBtu/hr) | Unit type
Mitsubishi Chemical Carbon Fiber and Composites | 24611 25925 | Oxidation Oven 1 Oxidation Oven 2 | 2 2 | Misc Combustion Unit. Misc Combustion Unit.
| 24613 | Oxidation Oven 3 | 2 | Misc Combustion Unit.
| 24614 | Oxidation Oven 4 | 2 | Misc Combustion Unit.
| 27336 | Oxidation Oven—Line 31 | 3 | Misc Combustion Unit.
| 27337 | Oxidation Oven—Line 31 | 3 | Misc Combustion Unit.
| 27338 | Cleaver Brooks Boiler | 6 | Boiler.
UC Davis Medical Center | 17549 | Combined Cycle Turbine | 260 | Gas Turbine.
| 20216 | Boiler 1 | 32 | Boiler.
| 20217 | Boiler 2 | 32 | Boiler.
| 20218 | Boiler 3 | 32 | Boiler.
| 20219 | Boiler 4 | 32 | Boiler.
Sacramento Metropolitan Utility District (SMUD) Procter & Gamble Power Plant | 27140 27141 and 27132 27142 and 27133 | Babcock & Wilcox Boiler Gas Turbine 1A Gas Turbine 1B | 109 583 583 | Boiler. Gas Turbine and Duct Burner.ᵃ Gas Turbine and Duct Burner.ᵃ
| 27143 | Gas Turbine 1C | 500 | Gas Turbine.
| 27144 | Boiler 1B | 109 | Boiler.
SMUD Cosumnes Power Plant | 25801 25800 | Turbine 2 Turbine 3 | 2,200 2,200 | Gas Turbine. Gas Turbine.
SMUD Campbell Power Plant | 27118 and 27116 | Gas Turbine | 1,410 | Gas Turbine and Duct Burner.ᵃ
SMUD Carson Power Plant | 27151 and 27153 | Gas Turbine | 600 | Gas Turbine and Duct Burner.ᵃ
| 27154 | Cleaver Brooks Boiler | 100 | Boiler.
| 27156 | Turbine 27156 | 450 | Gas Turbine.
ᵃ These units are combined cycle gas turbines, which consist of a simple cycle gas turbine combined with a duct burner, and are listed under the same permit document with separate permit numbers. For clarity, we are including the duct burner permit number in addition to the turbine permit number.

II. Public Comments and EPA Responses

The EPA's proposed action provided a 30-day public comment period. During this period, we received no comments.

III. EPA Action

No comments were submitted on the proposed action, and there is no change to our assessment of the SIP revision as described in our proposed action. Therefore, as authorized in section 110(k)(3) of the Act, the EPA is approving these District Permits into the California SIP. In addition, we are approving the major source NOX element for SMAQMD's RACT obligation for the 2008 ozone NAAQS. This approval corrects all deficiencies identified in our June 30, 2023 partial disapproval of the major NOX element of the 2017 RACT SIP (88 FR 42248), permanently stopping all sanction clocks associated with that partial disapproval. Moreover, this approval corrects the final remaining deficiency identified in our February 3, 2017 finding of failure to submit action for the SMAQMD's 2008 ozone NAAQS RACT SIP obligation (82 FR 9158). In addition, it terminates the EPA's obligation to promulgate a Federal Implementation Plan in response to that action.

IV. Incorporation by Reference

In this rule, the EPA is finalizing regulatory text that includes incorporation by reference. In accordance with requirements of 1 CFR 51.5, the EPA is finalizing the incorporation by reference of the District Permits contained in the submitted SIP revision and listed in Table 2 of this preamble, which establish NOX emission limits for specific major sources in the District. The EPA has made, and will continue to make, these documents available through https://www.regulations.gov and at the EPA Region IX Office (please contact the person identified in the FOR FURTHER INFORMATION CONTACT section of this preamble for more information).

V. Statutory and Executive Order Reviews

Under the Clean Air Act, the Administrator is required to approve a SIP submission that complies with the provisions of the Act and applicable federal regulations. 42 U.S.C. 7410(k); 40 CFR 52.02(a). Thus, in reviewing SIP submissions, the EPA's role is to approve State choices, provided that they meet the criteria of the Clean Air Act. Accordingly, this action merely approves State law as meeting federal requirements and does not impose additional requirements beyond those imposed by State law. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of Section 12(d) of the National Technology Transfer and Advancement Act of 1995 (15 U.S.C. 272 note) because application of those requirements would be inconsistent with the Clean Air Act.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

Executive Order 12898 (Federal Actions To Address Environmental Justice in Minority Populations and Low-Income Populations, 59 FR 7629, February 16, 1994) directs Federal agencies to identify and address “disproportionately high and adverse human health or environmental effects” of their actions on communities with environmental justice (EJ) concerns to the greatest extent practicable and permitted by law. The EPA defines EJ as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.”

The District did not evaluate EJ considerations as part of its SIP submittal; the CAA and applicable implementing regulations neither prohibit nor require such an evaluation. The EPA did not perform an EJ analysis and did not consider EJ in this action. Due to the nature of the action being taken here, this action is expected to have a neutral to positive impact on the air quality of the affected area. Consideration of EJ is not required as part of this action, and there is no information in the record inconsistent with the stated goals of Executive Order 12898 of achieving EJ for communities with EJ concerns.

This action is subject to the Congressional Review Act (CRA), and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by November 25, 2024. Filing a petition for reconsideration by the Administrator of this final rule does not affect the finality of this rule for the purposes of judicial review, nor does it extend the time within which a petition for judicial review may be filed, and shall not postpone the effectiveness of such rule or action. This action may not be challenged later in proceedings to enforce its requirements (see section 307(b)(2)).

List of Subjects in 40 CFR Part 52

Environmental protection, Air pollution control, Incorporation by reference, Intergovernmental relations, Nitrogen oxides, Ozone, Reporting and recordkeeping requirements.

Authority: 42 U.S.C. 7401 et seq.

Dated: September 18, 2024.
Martha Guzman Aceves,
Regional Administrator, Region IX.

For the reasons stated in the preamble, the Environmental Protection Agency amends part 52, chapter I, title 40 of the Code of Federal Regulations as follows:

PART 52—APPROVAL AND PROMULGATION OF IMPLEMENTATION PLANS

1. The authority citation for part 52 continues to read as follows:

Authority: 42 U.S.C. 7401 et seq.

Subpart F—California

2. Section 52.220 is amended by adding paragraphs (c)(599)(ii)(A)(2) and (c)(617) to read as follows:

§ 52.220 Identification of plan-in part.

* * * * *

(c) * * *

(599) * * *

(ii) * * *

(A) * * *

(2) The Reasonably Available Control Technology (RACT) determination for non-CTG major sources of NOX as contained in the RACT State Implementation Plan (SIP) for the 2008 8-Hour Ozone National Ambient Air Quality Standards (NAAQS) (“Demonstration of Reasonably Available Control Technology for the 2008 Ozone NAAQS”), as adopted on March 23, 2017.

* * * * *

(617) The following regulations and materials were submitted electronically on April 11, 2024, by the Governor's designee as an attachment to a letter dated April 10, 2024.

(i) Incorporation by reference. (A) Sacramento Metropolitan Air Quality Management District.

(1) Permit to Operate No. 24611—Eisenmann Oxidation Oven 1, issued to Mitsubishi Chemical Carbon Fiber & Composites, Inc., as revised on February 23, 2024.

(2) Permit to Operate No. 25925—Maxon Oxidation Oven 2, issued to Mitsubishi Chemical Carbon Fiber & Composites, Inc., as revised on February 23, 2024.

(3) Permit to Operate No. 24613—Eisenmann Oxidation Oven 3, issued to Mitsubishi Chemical Carbon Fiber & Composites, Inc., as revised on February 23, 2024.

(4) Permit to Operate No. 24614—Eisenmann Oxidation Oven 4, issued to Mitsubishi Chemical Carbon Fiber & Composites, Inc., as revised on February 23, 2024.

(5) Permit to Operate No. 27336—Despatch Oxidation Oven Line 31, issued to Mitsubishi Chemical Carbon Fiber and Composites Inc., as revised on February 23, 2024.

(6) Permit to Operate No. 27337—Despatch Oxidation Oven Line 31, issued to Mitsubishi Chemical Carbon Fiber and Composites Inc., as revised on February 23, 2024.

(7) Permit to Operate No. 27338—Cleaver Brooks Boiler, issued to Mitsubishi Chemical Carbon Fiber and Composites Inc., as revised on February 23, 2024.

(8) Permit to Operate No. 17549—General Electric Gas Turbine, issued to UCD Medical Center, as revised on February 23, 2024.

(9) Permit to Operate No. 20216—Johnston Boiler Company Boiler 1, No. 20217—Johnston Boiler company Boiler 2, No. 20218—Johnston Boiler Company Boiler 3, No. 20219—Johnston Boiler Company Boiler 4, issued to UCD Medical Center, as revised on February 23, 2024.

(10) Permit to Operate No. 27140—Babcock & Wilcox Boiler, issued to Sacramento Municipal Utility District Financing Authority DBA Procter and Gamble Power Plant, as revised on February 23, 2024.

(11) Permit to Operate No. 27141—General Electric Gas Turbine 1A and No. 27132—Duct Burner 1A, issued to Sacramento Municipal Utility District Financing Authority DBA Procter and Gamble Power Plant, as revised on February 23, 2024.

(12) Permit to Operate No. 27142—General Electric Gas Turbine 1B and No. 27133—Duct Burner 1B, issued to Sacramento Municipal Utility District Financing Authority DBA Procter and Gamble Power Plant, as revised on February 23, 2024.

(13) Permit to Operate No. 27143—General Electric Gas Turbine 1C, issued to Sacramento Municipal Utility District Financing Authority DBA Procter and Gamble Power Plant, as revised on February 23, 2024.

(14) Permit to Operate No. 27144—Cleaver Brooks Boiler 1B, issued to Sacramento Municipal Utility District Financing Authority DBA Procter and Gamble Power Plant, as revised on February 23, 2024.

(15) Permit to Operate No. 25801—General Electric Gas Turbine 2, issued to Sacramento Municipal Utility District Financing Authority (SFA)—Cosumnes Power Plant, as revised on February 23, 2024.

(16) Permit to Operate No. 25800—General Electric Gas Turbine 3, issued to Sacramento Municipal Utility District Financing Authority (SFA)—Cosumnes Power Plant, as revised on February 23, 2024.

(17) Permit to Operate No. 27118—Siemens Gas Turbine and No. 27116—Duct Burner, issued to Sacramento Municipal Utility District Financing Authority DBA Campbell Power Plant, as revised on February 23, 2024.

(18) Permit to Operate No. 27151—General Electric Gas Turbine and No. 27153—Duct Burner, issued to Sacramento Municipal Utility District Financing Authority DBA Carson Power Plant, as revised on February 23, 2024.

(19) Permit to Operate No. 27154—Cleaver Brooks Boiler, issued to Sacramento Municipal Utility District Financing Authority DBA Carson Power Plant, as revised on February 23, 2024.

(20) Permit to Operate No. 27156—General Electric Gas Turbine, issued to Sacramento Municipal Utility District Financing Authority DBA Carson Power Plant, as revised on February 23, 2024.

(B) [Reserved]

(ii) Additional materials. (A) Sacramento Metropolitan Air Quality Management District.

(1) “State Implementation Plan Submittal: Reasonably Available Control Technology (RACT) Permits for Major Stationary Sources of Nitrogen Oxides,” dated February 26, 2024.

(2) [Reserved]

(B) [Reserved]

* * * * *

§ 52.237 [Amended]

3. Section 52.237 is amended by removing and reserving paragraph (b)(1)(iii).

[FR Doc. 2024-21729 Filed 9-24-24; 8:45 am]

BILLING CODE 6560-50-P